FEDERAL COMMUNICATIONS COMMISSION

47 CFR Part 64

[CC Docket No. 91-281; DA 06-2283]

Rules and Regulations Regarding the Transmission of Calling Party Number

AGENCY: Federal Communications Commission.

ACTION: Proposed waiver; comments requested.

SUMMARY: On October 25, 2006, the National Aeronautics and Space Administration (NASA), John F. Kennedy Space Center (KSC) filed a petition for a limited waiver of the Commission's rules, which prohibits terminating carriers from passing calling party number (CPN) to the called party where a privacy indicator has been triggered. KSC requests that the Commission allow it to receive CPN, even when a privacy indicator has been triggered. In this document, the Commission seeks comment on the NASA/KSC petition for limited waiver of the Commission's Calling Party Number rules.

DATES: Comments are due on or before December 14, 2006, and reply comments are due on or before December 26, 2006.

ADDRESSES: You may submit comments, identified by CC Docket No. 91-281, by any of the following methods:

• Federal eRulemaking Portal: http://www.regulations.gov. Follow the instructions for submitting comments.

• Federal Communications Commission's Web Site: http://www.fcc.gov/cgb/ecfs/. Follow the instructions for submitting comments.

• Mail: Parties who choose to file by paper should also submit their comment on diskette. These diskettes should be submitted, along with three paper copies to Lynne Montgomery, Consumer Policy Division, Consumer & Governmental Affairs Bureau, 445 12th Street, SW., Room 5-A746, Washington, DC 20554. Such a submission should be on a 3.5-inch diskette formatted in an IBM compatible format using Word 97 or compatible software. The diskette should be accompanied by a cover letter and should be submitted in “read only” mode. The diskette should be clearly labeled with the commenter's name, proceeding (including the lead docket number in this case CC Docket No. 91-281), type of pleading (comment or reply comment), date of submission, and the name of the electronic file on the diskette. The label should also include the following phrase: “Disk Copy—Not an Original.” Each diskette should contain only one party's pleadings, preferably in a single electronic file. In addition, commenters must send diskette copies to the Commission's contractor at Portals II, 445 12th Street, SW., Room CY-B402, Washington, DC 20554.

• People with Disabilities: Contact the FCC to request reasonable accommodations (accessible format documents, sign language interpreters, CART, etc.) by e-mail: FCC504@fcc.gov or phone: 202-418-0530 or TTY: 202-418-0432.

For detailed instructions for submitting comments and additional information on the rulemaking process, see the SUPPLEMENTARY INFORMATION section of this document.

FOR FURTHER INFORMATION CONTACT: Lynne Montgomery, Consumer Policy Division, Consumer & Governmental Affairs Bureau, (202) 418-2229 (voice), Lynne.Montgomery@fcc.gov (e-mail).

SUPPLEMENTARY INFORMATION: This is a summary of the Commission's document, DA 06-2283, released November 7, 2006. The full text of document DA 06-2283, KSC's submission, and copies of any subsequently filed documents in this matter will be available for public inspection and copying during regular business hours at the FCC Reference Information Center, Portals II, 445 12th Street, SW., Room CY-A257, Washington, DC 20554. Document DA 06-2283, KSC's submission, and copies of subsequently filed documents in this matter may also be purchased from the Commission's contractor, Best Copy and Printing, at Portals II, 445 12th Street, SW., Room CY-B402, Washington, DC 20554. Customers may contact the Commission's contractor at their Web site www.bcpiweb.com or call 1-800-378-3160. A copy of KSC's submission may also be found by searching ECFS at http://www.fcc.gov/cgb/ecfs (insert CC Docket No. 91-281 into the proceeding block).

To request materials in accessible formats for people with disabilities (Braille, large print, electronic files, audio format), send an e-mail to fcc504@fcc.gov or call the Consumer & Governmental Affairs Bureau at 202-418-0530 (voice), 202-418-0432 (TTY). Document DA 06-2283 can also be downloaded in Word or Portable Document Format (PDF) at http://www.fcc.gov/cgb/policy. Pursuant to §§ 1.415 and 1.419 of the Commission's rules, 47 CFR 1.415, 1.419, interested parties may file comments and reply comments on or before the dates indicated on the first page of this document. Comments may be filed using: (1) the Commission's Electronic Comment Filing System (ECFS), (2) the Federal Government's eRulemaking Portal, or (3) by filing paper copies. See Electronic Filing of Documents in Rulemaking Proceedings, 63 FR 24121 (1998).

• Electronic Filers: Comments may be filed electronically using the Internet by accessing the ECFS: http://www.fcc.gov/cgb/ecfs/ or the Federal eRulemaking Portal: http://www.regulations.gov. Filers should follow the instructions provided on the Web site for submitting comments.

• For ECFS filers, if multiple docket or rulemaking numbers appear in the caption of this proceeding, filers must transmit one electronic copy of the comments for each docket or rulemaking number referenced in the caption. In completing the transmittal screen, filers should include their full name, U.S. Postal Service mailing address, and the applicable docket or rulemaking number. Parties may also submit an electronic comment by Internet e-mail. To get filing instructions, filers should send an e-mail to ecfs@fcc.gov, and include the following words in the body of the message, “get form.” A sample form and directions will be sent in response.

• Paper Filers: Parties who choose to file by paper must file an original and four copies of each filing. If more than one docket or rulemaking number appears in the caption of this proceeding, filers must submit two additional copies for each additional docket or rulemaking number. Filings can be sent by hand or messenger delivery, by commercial overnight courier, or by first-class or overnight U.S. Postal Service mail (although the Commission continues to experience delays in receiving U.S. Postal Service mail). All filings must be addressed to the Commission's Secretary, Office of the Secretary, Federal Communications Commission.

• The Commission's contractor will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building.

• Commercial overnight mail (other than U.S. Postal Service Express Mail and Priority Mail) must be sent to 9300 East Hampton Drive, Capitol Heights, MD 20743.

• U.S. Postal Service first-class, Express, and Priority mail should be addressed to 445 12th Street, SW., Washington, DC 20554.

Synopsis

On October 25, 2006, KSC filed a petition for a limited waiver of § 64.1601(b) of the Commission's rules, which prohibits terminating carriers from passing calling party number (CPN) to the called party when a privacy indicator has been triggered. Specifically, KSC asks the Commission to allow its Central Office Switch facility to obtain and store CPN information so that its security personnel can identify and capture the perpetrators of threatening calls. Section 64.1601(b) of the Commission's rules states in pertinent part that “[n]o common carrier subscribing to or offering any service that delivers CPN may override the privacy indicator associated with an interstate call * * *. [W]hen a caller requests that the CPN not be passed, a carrier may not reveal that caller's number or name, nor may the carrier use the number or name to allow the called party to contact the calling party.”

According to KSC, the facility provides its own security, fire and rescue, telecommunications, and other utility services 24 hours per day. Over the course of a year, KSC reports receiving between 12 and 20 threatening or harassing phone calls that are considered serious in nature. KSC states that the telecommunications carriers serving KSC are bound by CPN privacy rules, and parties placing threatening calls often use CPN restriction to prevent authorities from identifying their location. Without access to CPN, KSC's security personnel have to request a trace of these phone calls which can take up to a week to process. KSC requests a waiver of section 64.1601(b) so that all CPN information can be passed, to KSC's secure log, without regard to the calling party's privacy indicator, to facilitate KSC's investigation of telephone threats it deems credible. KSC proposes to limit the scope of its waiver by recording the CPN of incoming restricted calls but not passing CPN on to the party called, using passwords and non-disclosure agreements to protect CPN data, and destroying CPN information after a reasonable retention period. KSC argues that its situation presents special circumstances that warrant a limited waiver and states that it provides both the security services and end office telecommunications to all locations within its boundaries. Finally, KSC contends that the waiver would be applicable only to a narrow and well-defined public institution making it predictable, workable and unbiased in application. Accordingly, the Commission seeks comment on KSC's petition.

Federal Communications Commission.
Jay Keithley,
Deputy Bureau Chief, Consumer & Governmental Affairs Bureau.

[FR Doc. E6-20162 Filed 11-28-06; 8:45 am]

BILLING CODE 6712-01-P